DEPARTMENT OF HEALTH AND HUMAN SERVICES

National Institutes of Health

National Institute of Neurological Disorders and Stroke; Amended Notice of Meeting

Notice is hereby given of a change in the meeting of the National Institute of Neurological Disorders and Stroke Special Emphasis Panel, January 26, 2021, 11:00 a.m. to January 26, 2021, 03:00 p.m., National Institutes of Health, Neuroscience Center, 6001 Executive Boulevard, Rockville, MD, 20852 which was published in the Federal Register on December 08, 2020, 85 FR 79018.

This notice is being amended to change the date of this one-day meeting to February 24, 2021. The meeting time remains the same. The meeting is closed to the public.

Dated: January 19, 2021.
Natasha M. Copeland,
Deputy Director, Office of Federal Advisory Committee Policy.

[FR Doc. 2021-01560 Filed 1-25-21; 8:45 am]

BILLING CODE 4140-01-P